DEPARTMENT OF HEALTH AND HUMAN SERVICES

Administration for Children and Families

Office of Child Care; Statement of Organization, Functions, and Delegations of Authority

AGENCY: Administration for Children and Families, HHS.

ACTION: Notice; establishment of the Regional Operations Division within the Office of Child Care.

SUMMARY: The Administration for Children and Families (ACF) has made minor adjustments to the organization of the Office of Child Care (OCC) by adding a new Regional Operations Division. Impacted staff are being moved from the Office of the Director to this new division.

FOR FURTHER INFORMATION CONTACT: Anne-Marie Twohie, Deputy Director, Office of Child Care, 330 C Street SW, Washington, DC 20201, (240) 935-1159.

SUPPLEMENTARY INFORMATION: This notice amends Part K of the Statement of Organization Functions, and Delegations of Authority of the Department of Health and Human Services (HHS), Administration for Children and Families (ACF): Chapter KV, Office of Child Care (OCC) as last amended 88 FR 32227-32230, May 19, 2023.

I. Delete Chapter KV, Office of Child Care, in Its Entirety and Replace With the Following

KV.00 Mission. The Office of Child Care (OCC) has primary responsibility for the overall direction, policy, implementation, budget planning and development, and oversight of child care program operations authorized under the Child Care and Development Block Grant (CCDBG) and section 418 of the Social Security Act. OCC supports state, tribal, and territorial grantees' efforts to provide child care subsidies to families with low incomes, improve the quality of child care for all children, support a high-quality and well-compensated workforce, and support a strong child care system able to meet the needs of children and families. OCC provides leadership and coordination for child care issues within ACF, HHS, and with relevant federal, state, local, and tribal governmental and non-governmental organizations.

KV.10 Organization. OCC is headed by a Director who reports to the Deputy Assistant Secretary for Early Childhood Development (ECD). OCC is organized as follows:

Office of the Director (KVA)

Training and Technical Assistance Division (KVA1)

Program Operations Division (KVA2)

Oversight and Accountability Division (KVA3)

Policy, Data, and Planning Division (KVA4)

Regional Operations Division (KVAD)

Child Care Regional Offices (KVADI-X)

KV.20 Functions.

A. Office of the Director (KVA): The Office of the Director (OD) is responsible for leading the Program Office to ensure OCC fulfills its statutory responsibilities and programmatic objectives. The OD is responsible for the overall management, oversight, and policy and budget development specific to child care programs and for the supervision of the OCC Division Directors. The OD is also responsible for strategic planning and setting operational goals, planning initiatives to support strong implementation of the Child Care and Development Fund (CCDF) and other initiatives that support a child care sector that meets the developmental needs of children and supports families and child care providers. The OD also responds to inquiries from the public and governmental and non-governmental leaders.

The Deputy Director and Associate Deputy Director report to the Director and manage the day-to-day operations of OCC; share supervision and management responsibilities for the OCC Division Directors and other OD staff; coordinate with and provide direction to the ECD Budget and Administrative Operations divisions to manage the budget and administrative needs of OCC; assist the Director in carrying out the duties of the OD; and perform the duties of the Director when absent.

B. Training and Technical Assistance Division (KVA1): The Training and Technical Assistance Division is responsible for overseeing the training and technical assistance system including coordination and oversight of technical assistance grants, cooperative agreements, and contracts. The division also oversees publications to support CCDF lead agencies and OCC priorities and coordinates with the other divisions in OCC on content related to program implementation, monitoring, policy, interagency agreements, and websites.

C. Program Operations Division (KVA2): The Program Operations Division is responsible for supporting the development, management, and oversight of CCDF plans, plan amendments, and waiver requests to support compliance with federal law and regulation. The division works in partnership with regional program staff to facilitate responses to issues and questions on program implementation, policy, and other issues. The division is also responsible for analyzing information related to grantee program implementation.

D. Oversight and Accountability Division (KVA3): The Oversight and Accountability Division is responsible for monitoring grantees for compliance in the implementation of CCDF plans, and for programmatic and fiscal compliance with federal law, policies, and regulations. The division manages the program integrity and accountability oversight program, including audits, improper payments, error rates, and corrective actions. The division responds to inquiries from the Office of Inspector General and Government Accountability Office.

E. Policy, Data, and Planning Division (KVA4): The Policy, Data, and Planning Division is responsible for overseeing development and issuance of policies, regulations, and other policy guidance. The division is responsible for legislative issues and budget formulation in coordination with ECD and consistent with ACF early childhood priorities. The division oversees activities for implementation of major policy, legislative, regulatory and budget new initiatives and prepares materials in response to Congressional inquiries. The division also oversees collection of state, territory, and tribal grantee data and reports and reviews and analyzes grantee data and performance measures.

F. Regional Operations Division (KVA5): The Regional Operations Division is responsible for providing oversight, direction, and guidance to the 10 OCC Regional Offices and integrates regional work in central office planning.

G. Child Care Regional Offices (KVADI-X): Each of the 10 OCC Regional Offices is headed by an OCC Regional Program Manager (RPM) who reports to the Director of Regional Operations within the Regional Operations Division. OCC Regional Offices are responsible for ongoing oversight and monitoring, and technical assistance and working to resolve issues to bring all Lead Agencies in their region in full compliance with federal law, regulations, and policy. The RPM is responsible for liaising within each Region to OCC central office and maintaining relationships with state, territory, tribal, and local officials.

II. Continuation of Policy

Except as inconsistent with this reorganization, all statements of policy and interpretations with respect to organizational components affected by this notice within ACF, heretofore issued and in effect on this date of this reorganization are continued in full force and effect.

III. Delegation of Authority

All delegations and re-delegations of authority made to officials and employees of affected organizational components will continue in them, or their successors, pending further re-delegations, provided they are consistent with this reorganization.

IV. Funds, Personnel, and Equipment

Transfer of organizations and functions affected by this reorganization shall be accompanied in each instance by direct and support funds, positions, personnel, records, equipment, supplies, and other resources.

Meg Sullivan,
Principal Deputy Assistant Secretary for the Administration for Children and Families, performing the delegable duties of the Assistant Secretary for Children and Families.

[FR Doc. 2024-28368 Filed 12-3-24; 8:45 am]

BILLING CODE 4184-01-P